Title 3—

The President

Proclamation 7731 of November 7, 2003

National Adoption Month, 2003

By the President of the United States of America

A Proclamation

Every year, tens of thousands of American families answer the call to adopt a child. During National Adoption Month, we recognize America's adoptive and foster families. We also commit to helping all of our children, including those waiting in foster care, find safe, permanent, and loving homes.

On November 22, communities across the country will come together to celebrate National Adoption Day by finalizing the adoptions of over 3,000 children from foster care. On this day and all this month, we honor families that have opened their hearts and homes to a child.

The number of children who are adopted has increased in recent years. Still, thousands of children in our country—many with special needs—continue to wait in foster care for an adoptive family.

We are taking important steps to make adoption more commonplace and to protect the well-being of our children. We have eased the financial burden of adoption by nearly doubling the maximum adoption tax credit. We expanded the Promoting Safe and Stable Families Program, which encourages adoption at the local level and supports adoptive families with services that ease a child's transition into a new family and help to strengthen the family. The Department of Health and Human Services provides incentives to States that increase the number of children adopted from State-supervised foster care.

Last year, my Administration launched the first Federal adoption website, www.AdoptUSKids.org, which features pictures and profiles of children available for adoption. This site helps loving families connect with waiting children across the country. Already, more than 1,700 children featured on the site have been placed with adoptive families. This progress is testimony to the selfless spirit of American families.

NOW, THEREFORE, I, GEORGE W. BUSH, President of the United States of America, by virtue of the authority vested in me by the Constitution and laws of the United States, do hereby proclaim November 2003 as National Adoption Month. I call on all Americans to observe this month with appropriate programs and activities to honor adoptive families and to participate in efforts to find permanent homes for waiting children.

IN WITNESS WHEREOF, I have hereunto set my hand this seventh day of November, in the year of our Lord two thousand three, and of the Independence of the United States of America the two hundred and twenty-eighth.

B

[FR Doc. 03-28583

Filed 11-12-03; 8:45 am]

Billing code 3195-01-P